DEPARTMENT OF TRANSPORTATION

Federal Highway Administration

Notice of Intent To Prepare a Limited Scope Supplemental Environmental Impact Statement: Fond du Lac and Sheboygan Counties, Wisconsin

AGENCY: Federal Highway Administration (FHWA), DOT.

ACTION: Notice of Intent.

SUMMARY: The FHWA is issuing this notice to advise the public that a new Limited Scope Supplemental Environmental Impact Statement (LS SEIS) will be prepared for proposed transportation improvements on Wisconsin State Highway 23 (WIS 23) from U.S. Highway 151 to County Highway P in Fond du Lac and Sheboygan Counties, Wisconsin.

FOR FURTHER INFORMATION CONTACT: Anna Varney, Senior Field Operations Engineer, FHWA, 525 Junction Road, Suite 8000, Madison, WI 53717; Telephone: (608) 829-7514. You may also contact Steve Krebs, Director, Bureau of Technical Services, Wisconsin Department of Transportation, 4802 Sheboygan Ave., Madison, WI 53707; Telephone (608) 220-2278.

SUPPLEMENTARY INFORMATION: The FHWA, in cooperation with the Wisconsin Department of Transportation (WisDOT), will prepare a new LS SEIS in accordance with 23 CFR 771.130(f) and 40 CFR 1502.9 for proposed improvements along approximately 19 miles of WIS 23 from U.S. Highway 151 in the City of Fond du Lac to County Highway P in the City of Plymouth, in Fond du Lac and Sheboygan Counties, Wisconsin. In accordance with its regulations, FHWA will evaluate and provide additional analysis, if needed, on any new or changed impacts to the human and natural environment since the issuance of the March 17, 2014 Limited Scope Supplemental Final Environmental Impact Statement. In addition, the new LS SEIS will update and explain the methodology used to develop the traffic forecasts, explain the role of demographic data in traffic forecasts, as well as review the evaluation of reasonable alternatives.

The new LS SEIS will follow the same process and format as the original LS SEIS (Draft, Final, and Record of Decision [ROD]), except that scoping is not required. The original LS SEIS and other project documents will be available on the WIS 23 project Web site at https://wisconsindot.gov/Pages/projects/by-region/ne/wis23exp/default. After public review of the Draft LS SEIS document and public hearing(s), FHWA and WisDOT will issue a Final LS SEIS and ROD. The Final LS SEIS and ROD are anticipated to be issued as one combined document pursuant to 23 U.S.C. 139(n)(2), unless criteria are met for issuing the documents separately. Completion of the Final LS SEIS and ROD is anticipated in 2018.

The Draft LS SEIS will be available for public and agency review and comment prior to a public hearing. Public notice of the Draft LS SEIS and the date and time of the public hearing(s) will be posted on the project Web site and in local newspapers. To ensure that the full range of issues related to this proposed action are addressed and all significant issues identified, comments and suggestions are invited from all interested parties. Comments or questions concerning this proposed action can be directed to the FHWA or WisDOT contacts listed above, or the WIS 23 Study Project Manager Bryan Lipke at the WisDOT Northeast Region, 944 Vanderperren Way, Green Bay, WI 54304; Telephone: (920) 492-5703; Email: bryan.lipke@dot.wi.gov. Project information can also be obtained by visiting the WIS 23 project Web site at https://wisconsindot.gov/Pages/projects/by-region/ne/wis23exp/default.

Projects receiving Federal funds must comply with Title VI of the Civil Rights Act, and EO 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low income populations to the greatest extent practicable and permitted by law.

(Catalog of Federal Domestic Assistance Program Number 20.205, Highway Planning and Construction. The regulations implementing E.O. 12372 regarding intergovernmental consultation on Federal programs and activities apply to this program.)

Issued on: August 23, 2017.
Michael Davies,
Division Administrator, FHWA Wisconsin Division, Madison, Wisconsin.

[FR Doc. 2017-18317 Filed 8-28-17; 8:45 am]

BILLING CODE 4910-22-P